DEPARTMENT OF ENERGY

[GDO Docket No. PP-481-3]

Application To Amend Presidential Permit; CHPE LLC

AGENCY: Grid Deployment Office, Department of Energy.

ACTION: Notice of application.

SUMMARY: CHPE LLC (the Applicant) has filed an application to amend Presidential Permit No. PP-481-2. CHPE LLC is requesting the amendment to allow for a singular modification to the previously permitted route.

DATES: Comments, protests, or motions to intervene must be submitted on or before December 4, 2023.

ADDRESSES: Comments, protests, or motions to intervene should be addressed to Christina Gomer, electricity.exports@hq.doe.gov.

FOR FURTHER INFORMATION CONTACT: Christina Gomer, Grid Deployment Office (GD-20), U.S. Department of Energy, 1000 Independence Avenue SW, Washington, DC 20585, by phone at (240) 474-2403, or by email at electricity.exports@hq.doe.gov.

SUPPLEMENTARY INFORMATION: The construction, operation, maintenance, and connection of facilities at the international border of the United States for the transmission of electric energy between the United States and a foreign country is prohibited in the absence of a Presidential permit issued by the Secretary of Energy pursuant to Executive Order (E.O.) 10485, as amended by E.O. 12038. On April 10, 2023, the authority to issue such permits was delegated to the DOE's Grid Deployment Office by Delegation Order No. S1-DEL-S3-2023 and Redelegation Order No. S3-DEL-GD1-2023.

On October 6, 2014, the Department of Energy (DOE) issued Presidential Permit No. PP-362, authorizing Champlain Hudson Power Express, Inc. (CHPEI) to construct, operate, maintain, and connect the Champlain Hudson Power Express Project (Project). As described in PP-362, the Project is a 1,000-megawatt (MW), high-voltage direct current (HVDC), underground and underwater merchant transmission system that will cross the United States-Canada international border underwater near the Town of Champlain, New York, extend approximately 336 miles south through New York State, and interconnect to facilities located in Queens County, New York, owned by the Consolidated Edison Company of New York. The aquatic segments of the transmission line will primarily be buried in sediments of Lake Champlain and the Hudson, Harlem, and East rivers. The terrestrial portions of the transmission line will primarily be buried within existing road and railroad rights-of-way.

On July 21, 2020, DOE issued Presidential Permit PP-481 transferring the facilities authorized in PP-362 to CHPE LLC at the request of CHPEI and CHPE LLC.

On April 30, 2021, DOE issued Presidential Permit No. PP-481-1, amending CHPE LLC's permit to incorporate proposed revisions to the Project route and authorizing the increase in the Project's capacity from 1,000 MW to 1,250 MW.

On March 22, 2022, DOE issued Presidential Permit No. PP-481-2, amending CHPE LLC's permit to further clarify the maximum non-simultaneous rate of transmission to account for anticipated line losses.

On November 8, 2023, CHPE LLC filed an application (Application or App.) with the Grid Deployment Office (GDO) of the DOE, as required by regulations at 10 CFR 205.320 et seq., requesting that DOE amend Presidential Permit No. PP-481-2 to allow for a singular change in the route previously permitted. The proposed route modification would occur in the area referred to as the “Harlem Rail Yard Alternative.” App. at 4. CHPE LLC indicates that “[e]xtensive geotechnical investigations have revealed two critical geological formations that make the current [horizontal directional drill] launch area location infeasible.” Id. at 5. Therefore, CHPE LLC has identified alternate horizontal directional drill (HDD) entry and exit points, as well as a temporary staging area. The newly proposed route is “approximately 1,000 feet away from the existing launch site in an area along the northern border of Randall's Island adjacent to the Bronx Kill and existing route (Proposed HDD Site) as depicted in Figure 2 [of the App.]” Id. at 6.

In issuing the amendments in PP-481-1, DOE previously considered a route modification in the Harlem Rail Yard area, among others. Notice of the amendment application associated with PP-481-1 was published in the Federal Register on October 5, 2020 (85 FR 62721) with a 30-day comment period. DOE received no comments in response to this notice.

Given the relatively small size of the singular modification, the analysis conducted by DOE in the subject area in its prior assessments, and the previous opportunities given to the public to comment on that analysis in response to proposed changes to the permit, DOE has determined that a 15-day comment period is appropriate for this Application.

Procedural Matters: Any person may comment on this application by filing such comment at electricity.exports@hq.doe.gov. Any person seeking to become a party to this proceeding must file a motion to intervene at electricity.exports@hq.doe.gov, in accordance with Rule 214 of the Federal Energy Regulatory Commission's Rules of Practice and Procedure (18 CFR 385.214). Each comment or motion to intervene should be filed with DOE on or before the date listed above, should be clearly marked with Docket No. PP-481-3, and addressed to electricity.exports@hq.doe.gov. Additional copies are to be provided directly to Mr. Jay T. Ryan, Baker Botts LLP, 700 K Street NW, Washington, DC 20001, jay.ryan@bakerbotts.com.

Before a Presidential permit may be issued or amended, DOE must determine that the proposed action is in the public interest. In making that determination, DOE will consider the environmental impacts of the proposed action (i.e., granting the Presidential permit or amendment, with any conditions and limitations, or denying the permit), determine the proposed project's impact on electric reliability by ascertaining whether the proposed project would adversely affect the operation of the U.S. electric power supply system under normal and contingency conditions, and weigh any other factors that DOE may also consider relevant to the public interest. DOE also must obtain the favorable recommendation of the Secretary of State and the Secretary of Defense before taking final action on a Presidential permit application.

This application may be reviewed or downloaded electronically at www.energy.gov/gdo/pending-applications-0.

Signing Authority: This document of the Department of Energy was signed on November 13, 2023, by Maria Robinson, Director, Grid Deployment Office, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on November 14, 2023.
Treena V. Garrett,
Federal Register Liaison Officer, U.S. Department of Energy.

[FR Doc. 2023-25433 Filed 11-16-23; 8:45 am]

BILLING CODE 6450-01-P